NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. NSF has published regulations under the Antarctic Conservation Act in the Code of Federal Regulations. This is the required notice of a requested permit modification issued.

DATES: January 12, 2023 to February 3, 2026.

FOR FURTHER INFORMATION CONTACT: Andrew Titmus, ACA Permit Officer, Office of Polar Programs, National Science Foundation, 2415 Eisenhower Avenue, Alexandria, VA 22314; 703-292-4479; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection.

Description of Permit Modification Requested: The Foundation issued a permit (ACA 2022-020) to David Rootes, Environmental Manager, Antarctic Logistics and Expeditions, LLC (ALE), on November 29, 2021. The issued permit allows the applicant to operate a remote camp at Union Glacier, Antarctica, and provide logistical support services for scientific and other expeditions, film crews, and tourists. These activities include aircraft support, cache positioning, camp and field support, resupply, search and rescue, medevac, medical support and logistic support for some National Operators.

Then, on September 15, 2022, the Foundation issued a permit modification to continue permitted activities, including minimization, mitigation, and monitoring of waste, for the 2022-2023 Antarctic season.

Now the applicant proposes a modification to the permit to conduct helicopter operations. The helicopters will be operated in the Union Glacier area in order to evaluate the usefulness of the activity to ALE. Helicopters will be flown by pilots with mountain and glacier flight experience. No tourists will be flown in the helicopter. ALE has contingency plans for controlling environmental releases as a part of their existing activities at Union Glacier.

Erika N. Davis,
Program Specialist, Office of Polar Programs.

[FR Doc. 2022-27305 Filed 12-15-22; 8:45 am]

BILLING CODE 7555-01-P